DEPARTMENT OF AGRICULTURE

Animal and Plant Health Inspection Service

9 CFR Part 145

[Docket No. APHIS-2007-0042]

RIN 0579-AC78

National Poultry Improvement Plan and Auxiliary Provisions; Correcting Amendment

AGENCY: Animal and Plant Health Inspection Service, USDA.

ACTION: Final rule; correcting amendment.

SUMMARY: In a final rule that was published in the Federal Register on April 1, 2009 (74 FR 14710-14719, Docket No. APHIS-2007-0042), and effective on May 1, 2009, we amended the National Poultry Improvement Plan (the Plan) and its auxiliary provisions by providing new or modified sampling and testing procedures for Plan participants and participating flocks. In that final rule, we amended a section in the Plan to include additional tests for avian influenza, but we neglected to amend the heading of that section to indicate that it now contains some tests that are not blood tests. This document corrects that error.

DATES: Effective Date: May 1, 2009.

FOR FURTHER INFORMATION CONTACT: Mr. Andrew R. Rhorer, Senior Coordinator, Poultry Improvement Staff, National Poultry Improvement Plan, Veterinary Services, APHIS, USDA, 1498 Klondike Road, Suite 101, Conyers, GA 30094-5104; (770) 922-3496.

SUPPLEMENTARY INFORMATION:

Background

In a final rule that was published in the Federal Register on April 1, 2009 (74 FR 14710-14719, Docket No. APHIS-2007-0042), and effective on May 1, 2009, we amended the National Poultry Improvement Plan (the Plan) and its auxiliary provisions by providing new or modified sampling and testing procedures for Plan participants and participating flocks. The regulations in 9 CFR parts 145, 146, and 147 contain the provisions of the Plan.

We added new tests for avian influenza to the regulations in 9 CFR part 145, which contains provisions for Plan participation by breeding flocks. The section that contains these new avian influenza tests and other tests, § 145.14, has been headed “Blood testing.” However, the section now contains some tests that are not blood tests, meaning the section heading is no longer accurate. Therefore, we are amending the section heading to read “Testing.”

List of Subjects in 9 CFR Part 145

Animal diseases, Poultry and poultry products, Reporting and recordkeeping requirements.

Accordingly, we are amending 9 CFR part 145 as follows:

PART 145—NATIONAL POULTRY IMPROVEMENT PLAN FOR BREEDING POULTRY

1. The authority citation for part 145 continues to read as follows:

Authority: 7 U.S.C. 8301-8317; 7 CFR 2.22, 2.80, and 371.4.

2. Section 145.14 is amended by revising the section heading to read as follows:

§ 145.14 Testing.

* * * * *

Done in Washington, DC, this 15th day of April 2009.
Kevin Shea,
Acting Administrator, Animal and Plant Health Inspection Service.

[FR Doc. E9-9098 Filed 4-20-09; 8:45 am]

BILLING CODE 3410-34-P